CONSUMER FINANCIAL PROTECTION BUREAU

[Docket No: CFPB-2025-0055]

Privacy Act of 1974; System of Records

AGENCY: Consumer Financial Protection Bureau.

ACTION: Notice of a modified system of records.

SUMMARY: In accordance with the Privacy Act of 1974, the Consumer Financial Protection Bureau (CFPB or Bureau) proposes to modify a current Privacy Act System of Records titled, “CFPB.008 Transit Subsidy Program.” This system of records maintains information from employees applying for or holding parking permits or applying for or participating in transportation subsidies to be used for public transportation, and vanpools to and from the workplace. The information is used to determine employee eligibility for transit subsidies and to disburse non-monetary subsidies to eligible employees.

DATES: Comments must be received no later than January 21, 2026. The new system of records will be effective January 21, 2026 unless the comments received result in a contrary determination.

ADDRESSES: You may submit comments, identified by the title and docket number (see above Docket No. CFPB-2025-0055), by any of the following methods:

• Federal eRulemaking Portal: http://www.regulations.gov. Follow the instructions for submitting comments. A brief summary of this document will be available at https://www.regulations.gov/docket/CFPB-2025-0055.

• Email: privacy@cfpb.gov. Include Docket No. CFPB-2025-0055 in the subject line of the email.

• Mail/Hand Delivery/Courier: Kathryn Fong, Chief Privacy Officer, Consumer Financial Protection Bureau, 1700 G Street NW, Washington, DC 20552, (202) 435-7058. Because paper mail in the Washington, DC area and at CFPB is subject to delay, commenters are encouraged to submit comments electronically.

All submissions must include the agency name and docket number for this notice. In general, all comments received will be posted without change to http://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, Consumer Financial Protection Bureau, 1700 G Street NW, Washington, DC 20552; (202) 435-7058. If you require this document in an alternative electronic format, please contact CFPB_Accessibility@cfpb.gov. Please do not submit comments to this email box.

SUPPLEMENTARY INFORMATION: In accordance with the Privacy Act of 1974, 5 U.S.C. 552a, the CFPB is modifying a system of records titled, “CFPB.008 Transit Subsidy Program.” This modified system of records includes a new routine use to enable disclosure of records to the Department of Treasury, pursuant to E.O. 14249, Protecting America's Bank Account Against Fraud, Waste, and Abuse and Office of Management and Budget (OMB) Memorandum M-25-32, Preventing Improper Payments and Protecting Privacy Through Do Not Pay. CFPB is also modifying the purpose to clarify that records may be used to prevent improper payment of funds.

The CFPB is also making non-substantive revisions to this SORN to align with the Office of Management and Budget's recommended model in Circular A-108, Appendix II. The report of the revised system of records has been submitted to the Committee on Oversight and Government Reform of the House of Representatives, the Committee on Homeland Security and Governmental Affairs of the Senate, and the Office of Management and Budget, pursuant to Circular A-108, “Federal Agency Responsibilities for Review, Reporting, and Publication under the Privacy Act” (Dec. 2016) and the Privacy Act of 1974, 5 U.S.C. 552a(r).

SYSTEM NAME AND NUMBER:

CFPB.008—Transit Subsidy Program.

SECURITY CLASSIFICATION:

Unclassified.

SYSTEM LOCATION:

Consumer Financial Protection Bureau, 1700 G Street NW, Washington, DC 20552.

SYSTEM MANAGER(S):

Consumer Financial Protection Bureau, Chief Operating Officer, 1700 G Street NW, Washington, DC 20552.

AUTHORITY FOR MAINTENANCE OF THE SYSTEM:

Public Law 111-203; title X, sections 1012 and 1013, codified at 12 U.S.C. 5492, 5493; Public Law 103-172; title V, section 1(a), codified at 5 U.S.C. 7902.

PURPOSE(S) OF THE SYSTEM:

The purpose of the information collection is to establish and maintain systems for providing transportation subsidies to employees. This includes mass transportation, vanpools, and parking permits. Information is used to determine the eligibility of applicants for transportation subsidies and to disburse subsidies to eligible employees through the Department of Transportation, and for parking management. The system also enables the Bureau to compare these records with other Federal agencies to ensure that employee transportation programs subsidies are not abused, and to prevent improper payment of funds. The information will also be used for administrative purposes to ensure quality control, performance, and improving management processes.

CATEGORIES OF INDIVIDUALS COVERED BY THE SYSTEM:

Bureau employees applying for or who participate in the public transportation transit subsidy program and vanpool transit subsidies to and from the workplace, and applicants for or holders of parking permits.

CATEGORIES OF RECORDS IN THE SYSTEM:

Records maintained in this system contain the Transit Subsidy Program application which includes the participant or applicant's name, home address, office address, office telephone number, grade, duty hours, unique numeric identifier chosen by the individual, or the last four of the Social Security number, previous method of transportation to and from the workplace, costs of transportation, and the type of fare subsidy requested including records of parking permit holders. It will include subsidies authorized under the Federal Workforce Transportation Program. Reports will be submitted to the Department of Transportation and to the Bureau of Public Debt in accordance with the Bureau Transit Subsidy Program.

RECORD SOURCE CATEGORIES:

Information in this system is maintained about employees who have applied for or hold parking permits, or applied for or participate in the transportation subsidy program, the subsidy program managers and other appropriate agency officials, or other federal agencies.

ROUTINE USES OF RECORDS MAINTAINED IN THE SYSTEM, INCLUDING CATEGORIES OF USERS AND THE PURPOSES OF SUCH USES:

In addition to those disclosures generally permitted under 5 U.S.C. 552a(b) of the Privacy Act, and consistent with the CFPB's Disclosure of Records and Information Rules, promulgated at 12 CFR part 1070, all or a portion of the records or information contained in this system may be disclosed outside the CFPB as a routine use to:

(1) Appropriate agencies, entities, and persons when (a) the Bureau suspects or has confirmed that there has been a breach of the system of records; (b) the Bureau has determined that as a result of the suspected or confirmed breach there is a risk of harm to individuals, the Bureau (including its information systems, programs, and operations), the federal government, or national security; and (c) the disclosure made to such agencies, entities, and persons is reasonably necessary to assist in connection with the Bureau's efforts to respond to the suspected or confirmed breach or to prevent, minimize, or remedy such harm.

(2) Another Federal agency or entity, when the Bureau determines that information from this system of records is reasonably necessary to assist the recipient agency or entity in (a) responding to a suspected or confirmed breach or (b) preventing, minimizing, or remedying the risk of harm to individuals, the recipient agency or entity (including its information systems, programs, and operations), the Federal government, or national security, resulting from a suspected or confirmed breach.

(3) Another Federal or State agency to (a) permit a decision as to access, amendment, or correction of records to be made in consultation with or by that agency, or (b) verify the identity of an individual or the accuracy of information submitted by an individual who has requested access to or amendment or correction of records.

(4) The Executive Office of the President in response to an inquiry from that office made at the request of the subject of a record or a third party on that person's behalf.

(5) Congressional offices in response to an inquiry made at the request of the individual to whom the record pertains.

(6) Contractors, agents, or other authorized individuals performing work on a contract, service, cooperative agreement, job, or other activity on behalf of the Bureau or the U.S. Government and who have a need to access the information in the performance of their mission, including duties or activities.

(7) The Department of Justice (DOJ) for its use in providing legal advice to the Bureau or in representing the Bureau in a proceeding before a court, adjudicative body, or other administrative body, where the use of such information by the DOJ is deemed by the Bureau to be relevant and necessary to the advice or proceeding, and such proceeding names as a party in interest:

(a) The CFPB;

(b) Any employee of the Bureau in their official capacity;

(c) Any employee of the Bureau in their individual capacity where DOJ has agreed to represent the employee; or

(d) The United States, where the CFPB determines that litigation is likely to affect the Bureau or any of its components.

(8) Appropriate Federal, State, local, foreign, Tribal, or self-regulatory organizations or agencies responsible for investigating, prosecuting, enforcing, implementing, issuing, or carrying out a statute, rule, regulation, order, policy, or license if the information may be relevant to a potential violation of civil or criminal law, rule, regulation, order, policy, or license.

(9) A court, magistrate, or administrative tribunal in the course of an administrative proceeding or judicial proceeding, including disclosures to opposing counsel or witnesses (including expert witnesses) in the course of discovery or other pre- hearing exchanges of information, litigation, or settlement negotiations, where relevant or potentially relevant to a proceeding, or in connection with criminal law proceedings.

(10) The U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

POLICIES AND PRACTICES FOR STORAGE OF RECORDS:

Records maintained in this system are stored electronically and in paper files.

POLICIES AND PRACTICES FOR RETRIEVAL OF RECORDS:

Records are retrievable by a variety of fields including, but not limited to, the individual's name, home address, work organization, location, unique numeric identifier chosen by the individual, or the last four of the Social Security number, mode of transportation, or by some combination thereof.

POLICIES AND PRACTICES FOR RETENTION AND DISPOSAL OF RECORDS:

The CFPB maintains electronic and paper records in accordance with published National Archives and Records Administration Disposition Schedule, General Records Schedule 9, Federal Employee Transportation Subsidy Program. Temporary. Destroy when 3 years old. (General Records Schedule (GRS) 9, item 7).

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

Individuals seeking notification and access to any record contained in this system of records may inquire in writing in accordance with instructions in 12 CFR 1070.50 et seq. Address such requests to: Chief Privacy Officer, Consumer Financial Protection Bureau, 1700 G Street NW, Washington, DC 20552. Instructions are also provided on the CFPB website: https://www.consumerfinance.gov/foia-requests/submit-request/.

CONTESTING RECORD PROCEDURES:

See “Access Procedures” above.

NOTIFICATION PROCEDURES:

See “Access Procedures” above.

EXEMPTIONS PROMULGATED FOR THE SYSTEM:

None.

HISTORY:

76 FR 68395; 83 FR 23435.

Kathryn Fong,
Chief Privacy Officer, Consumer Financial Protection Bureau.

[FR Doc. 2025-23610 Filed 12-19-25; 8:45 am]

BILLING CODE 4810-AM-P